ENVIRONMENTAL PROTECTION AGENCY

[EPA-HQ-OPP-2007-0038 FRL-8142-8]

System Research and Applications Corporation; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to System Research and Applications Corporation, in accordance with 40 CFR 2.307(h)(3) and 2.308(i)(2). System Research and Applications Corporation, has been awarded a contract to perform work for OPP, and access to this information will enable System Research and Applications Corporation, to fulfill the obligations of the contract.

DATES: System Research and Applications Corporation will be given access to this information on or before August 13, 2007.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2007-0038 Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Contractor Requirements

Under Contract No. EP-W-05-024 Task Order #39, System Research and Applications Corporation, will perform configuration management support to the Enterprise Policy and Planning Oversight Staff. System Research and Applications Corporation will designate a configuration management contractor to assist in creating policy, administer and support the database, and assist in facilitating the configuration management workflow process for ITRMD/EPPOS.

The OPP has determined that access by System Research and Applications Corporation, to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with System Research and Applications Corporation, prohibits use of the information for any purpose not specified in the contract; prohibits disclosure of the information to a third party without prior written approval from the Agency; and requires that each official and employee of the contractor sign an agreement to protect the information from unauthorized release and to handle it in accordance with the FIFRA Information Security Manual. In addition, System Research and Applications Corporation, are required to submit for EPA approval a security plan under which any CBI will be secured and protected against unauthorized release or compromise. No information will be provided to System Research and Applications Corporation, until the requirements in this document have been fully satisfied. Records of information provided to System Research and Applications Corporation, will be maintained by EPA Project Officers for this contract. All information supplied to System Research and Applications Corporation, by EPA for use in connection with this contract will be returned to EPA when System Research and Applications Corporation, have completed their work.

List of Subjects

Environmental protection, Business and industry, Government contracts, Government property, Security measures.

Dated: July 25, 2007.
Oscar Morales,
Acting Director, Office of Pesticide Programs.

[FR Doc. E7-15053 Filed 8-7-07; 8:45 am]

BILLING CODE 6560-50-S